ENVIRONMENTAL PROTECTION AGENCY

[ER-FRL-6675-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060065, ERP No. D-FRC-L05234-WA, Priest Rapids Hydroelectric Project, FERC Project #2114 Relicensing Application for New License, Columbia River, Grant, Yakima, Kittitas, Douglas, Benton, and Chelan Counties, WA.

Summary: EPA expressed environmental concerns about water quality impacts, and recommended that the final EIS include the CWA 401 certification requirements to ensure water quality impacts are addressed.

Rating EC1.

EIS No. 20060072, ERP No. D-FHW-H40188-00, U.S. 59—Amelia Earhart Memorial Bridge over the Missouri River, Construction from Atchison, Kansas to U.S. 59/State Route 45 Intersection, U.S. Coast Guard Section 9 Permit and U.S. Army COE Section 10 and 404 Permits, Atchison, KS and Buchanan County, MO.

Summary: EPA does not object to the proposed project.

Rating LO.

EIS No. 20060081, ERP No. D-FHW-G59001-AR, River Valley Intermodal Facilities, Construction and Operation of Multi-Modal Transportation Complex, U.S. Army COE Section 10 and 404 Permits, City of Russellville, Pope County, AR.

Summary: EPA does not object to the preferred alternative.

Rating LO.

EIS No. 20060085, ERP No. D-NRS-H34030-MO, East Locust Creek Watershed Revised Plan, Installation of Multiple-Purpose Reservoir, Flood Prevention and Watershed Protection, Sullivan and Putnam Counties, MO.

Summary: EPA expressed environmental concerns because the DEIS did not fully describe the mitigation for the wetlands impacts of the project, nor of the impacts to stream channels. EPA recommended that the Final EIS expand also the discussion of social, cultural, and Environmental Justice impacts.

Rating EC2.

EIS No. 20060113, ERP No. D-FHW-H40189-MO, Interstate 29/35 Paseo Bridge Corridor, Reconstruct and Widen I-29/35, Missouri River, North Kansas City and Kansas City, Clay and Jackson Counties, MO.

Summary: EPA does not object to the proposed action.

Rating LO.

Final EISs

EIS No. 20060100, ERP No. F-FRC-L05233-WA, Lewis River Hydroelectric Projects, Relicensing the Swift No. 1 (FERC No. 2111-018), Swift No. 2 (FERC No. 2213-011), Yale (FERC No. 2071-013), Merwin (FERC No. 935-053) Project, Application for Relicense, North Fork Lewis River, Cowlitz, Clark and Shamania Counties, WA.

Summary: EPA's concerns about water quality impacts were addressed; therefore, EPA does not object to the proposed projects.

EIS No. 20060108, ERP No. FR-AFS-J65437-CO, Gold Camp Road Plan, Develop a Feasible Plan to Manage the Operation of Tunnel #3 and the 8.5 mile Road Segment, Pike National Forest, Pikes Peak Ranger District, Colorado Springs, EL Paso County, CO.

Summary: No formal comment letter was sent to the preparing agency.

Dated: May 9, 2006.
Robert W. Hargrove,
Director, NEPA Compliance Division, Office of Federal Activities.

[FR Doc. E6-7268 Filed 5-11-06; 8:45 am]

BILLING CODE 6560-50-P